FEDERAL COMMUNICATIONS COMMISSION

47 CFR Part 73

[DA 07-1349; MB Docket No. 02-177; RM-10489]

Radio Broadcasting Services; Milano, TX

AGENCY: Federal Communications Commission.

ACTION: Final rule; dismissal of petition for reconsideration.

SUMMARY: The staff approves the withdrawal of a petition for reconsideration in this FM allotment rulemaking proceeding and finds no reason for further consideration of the matters raised therein. See SUPPLEMENTARY INFORMATION.

FOR FURTHER INFORMATION CONTACT: Andrew J. Rhodes, Media Bureau, (202) 418-2180.

SUPPLEMENTARY INFORMATION: This is a synopsis of the Commission's Memorandum Opinion and Order, MB Docket No. 02-177, adopted March 16, 2007, and released March 20, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Report and Order in this proceeding dismissed a counterproposal in this rulemaking proceeding filed by Roy. E. Henderson, requesting the upgrade and reallotment of his Station KLTR(FM) from Channel 297A, Caldwell, Texas, to Channel 297C3 at Bedias, Texas. The counterproposal was dismissed because it was technically defective. The withdrawal of the petition for reconsideration complies with Section 1.420(j) of the Commission's rules because Henderson has documented that he has not and will not receive any consideration in exchange for the withdrawal of his petition. See 69 FR 34114 (June 18, 2004).

This document is not subject to the Congressional Review Act. (The Commission, is, therefore, not required to submit a copy of this Memorandum Opinion and Order to GAO, pursuant to the Congressional Review Act, see 5 U.S.C. 801(a)(1)(A) because the petition for reconsideration was dismissed).

Federal Communications Commission.
John A. Karousos,
Assistant Chief, Audio Division, Media Bureau.

[FR Doc. E7-6225 Filed 4-3-07; 8:45 am]

BILLING CODE 6712-01-P